DEPARTMENT OF THE INTERIOR

Bureau of Land Management

[WY-957-06-1420-BJ]

Notice of Filing of Plats of Survey, Wyoming

AGENCY: Bureau of Land Management, Interior.

SUMMARY: The Bureau of Land Management (BLM) has filed the plats of survey of the lands described below in the BLM Wyoming State Office, Cheyenne, Wyoming, on the dates indicated.

FOR FURTHER INFORMATION CONTACT: Bureau of Land Management, 5353 Yellowstone Road, P.O. Box 1828, Cheyenne, Wyoming 82003.

SUPPLEMENTARY INFORMATION: These surveys were executed at the request of the Bureau of Land Management, and are necessary for the management of resources. The lands surveyed are:

The plat and field notes representing the dependent resurvey of a portion of the Twelfth Standard Parallel North, through Range 79 West, the west and north boundaries, and the subdivisional lines, T. 49 N., R. 79 W., Sixth Principal Meridian, Wyoming, Group No. 728, was accepted and filed April 10, 2006.

The plat and field notes representing the dependent resurvey of a portion of the west boundary, a portion of the subdivisional lines, and the subdivision of section 18, T. 21 N., R. 87 W., Sixth Principal Meridian, Wyoming, Group No. 740, was accepted and filed May 30, 2006.

The plat and field notes representing the dependent resurvey of a portion of the subdivisional lines, T. 21 N., R. 88 W., Sixth Principal Meridian, Wyoming, Group No. 724, was accepted and filed May 30, 2006.

The plat and field notes representing the dependent resurvey of a portion of the subdivisional lines, the subdivision of section 26, and the metes and bounds survey of Lot 4, section 26, T. 22 N., R. 80 W., Sixth Principal Meridian, Wyoming, Group No. 744, was accepted and filed May 30, 2006.

The plat and field notes representing the dependent resurvey of a portion of the Fifth Standard Parallel North, through Ranges 95 and 96 West, the Twelfth Guide Meridian West, through Township 20 North, between Ranges 96 and 97 West, and the subdivisional lines, T. 20 N., R. 96 W., Sixth Principal Meridian, Wyoming, Group No. 706, was accepted and filed July 28, 2006.

The plat and field notes representing the corrective dependent resurvey of a portion of the Sixth Standard Parallel North, through Range 118 West, the dependent resurvey of a portion of the subdivisional lines and the subdivision of sections 4 and 5, T. 24 N., R. 118 W., Sixth Principal Meridian, Wyoming, Group No. 696, was accepted and filed July 28, 2006.

The plat and field notes representing the dependent resurvey of a portion of the north and east boundaries, a portion of the subdivisional lines, and the subdivision of certain sections, T. 29 N., R. 84 W., Sixth Principal Meridian, Wyoming, Group No. 664, was accepted and filed August 11, 2006.

The plat and field notes representing the corrective dependent resurvey of a portion of the Thirteenth Standard Parallel North, through Range 92 West, and a portion of the subdivisional lines, T. 53 N., R. 92 W., of the Sixth Principal Meridian, Wyoming, Group No. 741, was accepted and filed August 11, 2006.

Copies of the preceding described plats and field notes are available to the public at a cost of $1.10 per page.

Dated: September 8, 2006.
John P. Lee,
Chief Cadastral Surveyor, Division of Support Services.

[FR Doc. E6-15245 Filed 9-13-06; 8:45 am]

BILLING CODE 4310-22-P